ENVIRONMENTAL PROTECTION AGENCY

[FRL-6704-5]

Agency Information Collection Activities: Submission for OMB Review; Comment Request; Standards of Performance for New Stationary Sources (NSPS) Wool Fiberglass Insulation Manufacturing and National Emission Standards for Hazardous Air Pollutants (NESHAP)—Maximum Achievable Control Technology (MACT) for Source Categories Wool Fiberglass Manufacturing Plants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Combined ICR for NSPS, Standards of Performance for New Stationary Sources, Wool Fiberglass Insulation Manufacturing, 40 CFR part 60, subpart PPP, expiration date 8/31/00; and NESHAP-MACT for Wool Manufacturing, 40 CFR part 63, subpart NNN, expiration date 8/31/00. For identification purposes, this combined ICR will continue to use OMB Control Number 2060-0114 and EPA ICR No. 1160.06, which formerly was applicable to NSPS, subpart PPP. OMB Control Number 2060-0359 and EPA ICR Number 1795.01 had been used for NESHAP-MACT Subpart NNN and will no longer be valid. This ICR describes the nature of the information collection and its expected burden and cost; where appropriate, it includes the actual data collection instrument.

DATES: Comments must be submitted on or before June 22, 2000.

FOR FURTHER INFORMATION CONTACT: For a copy of the ICR contact Sandy Farmer at EPA by phone at (202) 260-2740, by E-Mail at Farmer.Sandy @epamail.epa.gov or download off the Internet at http://www.epa.gov/icr and refer to EPA ICR No. 1160.06. For technical questions about the ICR contact Gregory Fried at EPA by phone at (202) 564-7016 or by email at fried.gregory@epa.gov.

SUPPLEMENTARY INFORMATION: Title: NSPS Subpart PPP, Standards of Performance for New Stationary Sources—Wool Fiberglass Insulation Manufacturing and NESHAP-MACT Subpart NNN, National Emission Standards for Hazardous Air Pollutants—Wool Fiberglass Manufacturing, OMB Control Number 2060-0114, EPA ICR No. 1160.06. This is a request for extension of two currently approved collections which will be combined into one collection.

Abstract: Plants subject to NSPS Subpart PPP and/or NESHAP-MACT Subpart NNN must provide notifications to EPA of construction, modification, startups, shut downs, date and results of initial performance tests and provide semiannual reports of excess emissions. Owners/operators of wool fiberglass manufacturing facilities subject to NSPS Subpart PPP and/or NESHAP-MACT, Subpart NNN must also record continuous measurements of control device operating parameters.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published October 29, 1999 for NSPS Subpart PPP and January 21, 2000 for NESHAP-MACT Subpart NNN in Federal Register. No comments were received.

Burden Statement: The annual public reporting and recordkeeping burden for the collection of information for these two standards on existing wool fiberglass manufacturing facilities is estimated to average 149 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Wool Fiberglass Insulation Manufacturing Plants for NSPS, Subpart PPP and/or Wool Fiberglass Manufacturing Plants for NESHAP-MACT Subpart NNN

Estimated Number of Respondents: 29.

Frequency of Response: Initial and semiannual.

Estimated Total Annual Hour Burden: 19,098

Estimated Total Annualized Capital and Operating & Maintenance Cost Burden: $496,000.

Send comments on the Agency's need for this information, the accuracy of the provided burden estimates, and any suggested methods for minimizing respondent burden, including through the use of automated collection techniques to the following addresses. Please refer to EPA ICR No. 1160.06 and OMB Control No. 2060-0114 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: May 20, 2000.
Oscar Morales,
Director, Collection Strategies Division.

[FR Doc. 00-12957 Filed 5-22-00; 8:45 am]

BILLING CODE 6560-50-P